DEPARTMENT OF DEFENSE

Defense Acquisition Regulations System

48 CFR Parts 208, 225, 252, 253, and Chapter 2

[DFARS Case 2003-D072]

Defense Federal Acquisition Regulation Supplement; Required Sources of Supply

AGENCY: Defense Acquisition Regulations System, Department of Defense (DoD).

ACTION: Final rule.

SUMMARY: DoD has issued a final rule amending the Defense Federal Acquisition Regulation Supplement (DFARS) to update text addressing acquisitions made through Government supply sources. This rule is a result of a transformation initiative undertaken by DoD to dramatically change the purpose and content of the DFARS.

DATES: Effective Date: July 11, 2006.

FOR FURTHER INFORMATION CONTACT: Ms. Robin Schulze, Defense Acquisition Regulations System, OUSD (AT&L) DPAP (DARS), IMD 3C132, 3062 Defense Pentagon, Washington, DC 20301-3062. Telephone (703) 602-0326; facsimile (703) 602-0350. Please cite DFARS Case 2003-D072.

SUPPLEMENTARY INFORMATION:

A. Background

DFARS Transformation is a major DoD initiative to dramatically change the purpose and content of the DFARS. The objective is to improve the efficiency and effectiveness of the acquisition process, while allowing the acquisition workforce the flexibility to innovate. The transformed DFARS will contain only requirements of law, DoD-wide policies, delegations of FAR authorities, deviations from FAR requirements, and policies/procedures that have a significant effect beyond the internal operating procedures of DoD or a significant cost or administrative impact on contractors or offerors. Additional information on the DFARS Transformation initiative is available at http://www.acq.osd.mil/dpap/dars/dfars/transformation/index.htm.

This final rule is a result of the DFARS Transformation initiative. The DFARS changes—

○ Delete informational text on GSA Federal Supply Schedules that is unnecessary for inclusion in the DFARS;

○ Delete text on the Defense National Stockpile and the acquisition of helium. These issues are adequately addressed in the Federal Acquisition Regulation at 8.003 and Subpart 8.5;

○ Delete obsolete text on the DoD Industrial Preparedness Production Planning Program. There is no longer a DoD-wide Program; and

○ Delete procedures for ordering from central nonprofit agencies; for acquisition of items under the DoD Coordinated Acquisition Program; for contracting or performing field service functions for NASA; for use of the DoD Precious Metals Recovery Program; and for use of enterprise software agreements for acquiring commercial software and related services. Text on these subjects has been relocated to the DFARS companion resource, Procedures, Guidance, and Information (PGI), available at http://www.acq.osd.mil/dpap/dars/pgi.

DoD published a proposed rule at 70 FR 73187 on December 9, 2005. One source submitted comments on the proposed rule. That source recommended establishment of separate Federal supply class (FSC) commodity codes for Americans with Disabilities Act (ADA) and Occupational Safety and Health Administration (OSHA) compliant products, to distinguish the ADA or OSHA compliant products from similar products that are not ADA or OSHA compliant (e.g., ramps, landings, steps, decks). Although DoD includes certain FSC commodity codes in its publications, the codes are established and maintained by the General Services Administration (GSA). Therefore, DoD has forwarded the respondent's recommendation to GSA for consideration. DoD has adopted the proposed rule as a final rule, with an additional change at DFARS 225.7005-1 to remove a reference to DFARS Subpart 208.72, which has been eliminated by this rule.

This rule was not subject to Office of Management and Budget review under Executive Order 12866, dated September 30, 1993.

B. Regulatory Flexibility Act

DoD certifies that this final rule will not have a significant economic impact on a substantial number of small entities within the meaning of the Regulatory Flexibility Act, 5 U.S.C. 601, et seq., because the rule deletes obsolete, unnecessary, or procedural DFARS text, but makes no significant change to DoD contracting policy.

C. Paperwork Reduction Act

The Paperwork Reduction Act does not apply, because the rule does not impose any information collection requirements that require the approval of the Office of Management and Budget under 44 U.S.C. 3501, et seq.

List of Subjects in 48 CFR Parts 208, 225, 252, and 253

Government procurement.

Michele P. Peterson,
Editor, Defense Acquisition Regulations System.

Therefore, 48 CFR parts 208, 225, 252, and 253 and Appendix B to Chapter 2 are amended as follows:

1. The authority citation for 48 CFR parts 208, 225, 252, and 253 and Appendix B to subchapter I continues to read as follows:

Authority: 41 U.S.C. 421 and 48 CFR Chapter 1.

PART 208—REQUIRED SOURCES OF SUPPLIES AND SERVICES

2. Section 208.002 is revised to read as follows:

208.002 Priorities for use of Government supply sources.

(a)(1)(v) See Subpart 208.70, Coordinated Acquisition, and Subpart 208.74, Enterprise Software Agreements.

208.003 [Removed]

3. Section 208.003 is removed.

4. Section 208.705 is revised to read as follows:

208.705 Procedures.

Follow the procedures at PGI 208.705 when placing orders with central nonprofit agencies.

208.7000 [Amended]

5. Section 208.7000 is amended in paragraph (a), in the parenthetical, by removing “appendix B” and adding in its place “PGI 208.7006”.

6. Sections 208.7002-1 and 208.7002-2 are revised to read as follows:

208.7002-1 Acquiring department responsibilities.

See PGI 208.7002-1 for the acquiring department's responsibilities.

208.7002-2 Requiring department responsibilities.

See PGI 208.7002-2 for the requiring department's responsibilities.

7. Section 208.7003-1 is amended by revising paragraph (a) introductory text and paragraph (b) to read as follows:

208.7003-1 Assignments under integrated materiel management (IMM).

(a) Acquire all items assigned for IMM from the IMM manager except—

* * * * *

(b) Follow the procedures at PGI 208.7003-1(b) when an item assigned for IMM is to be acquired by the requiring department in accordance with paragraph (a)(3) of this subsection.

8. Section 208.7004 is revised to read as follows:

208.7004 Procedures.

Follow the procedures at PGI 208.7004 for processing coordinated acquisition requirements.

208.7004-1 through 208.7004-10 [Removed]

9. Sections 208.7004-1 through 208.7004-10 are removed.

10. Sections 208.7005 and 208.7006 are revised to read as follows:

208.7005 Military interdepartmental purchase requests.

Follow the procedures at—

(a) PGI 253.208-1 when using DD Form 448, Military Interdepartmental Purchase Request; and

(b) PGI 253.208-2 when using DD Form 448-2, Acceptance of MIPR.

208.7006 Coordinated acquisition assignments.

See PGI 208.7006 for coordinated acquisition assignments.

11. Sections 208.7101 and 208.7102 are revised to read as follows:

208.7101 Policy.

Departments and agencies shall cooperate fully with NASA in making acquisition services, equipment, personnel, and facilities available on the basis of mutual agreement.

208.7102 Procedures.

Follow the procedures at PGI 208.7102 when contracting or performing services for NASA.

208.7103 through 208.7105 [Removed]

12. Sections 208.7103 through 208.7105 are removed.

Subpart 208.72 [Removed and Reserved]

13. Subpart 208.72 is removed and reserved.

208.7301 [Amended]

14. Section 208.7301 is amended by removing the definitions of “Dual pricing evaluation procedure” and “Precious Metals Indicator Code (PMIC)”.

208.7302 [Amended]

15. Section 208.7302 is amended in the first sentence by removing “(PMRP)”.

16. Sections 208.7303 and 208.7304 are revised to read as follows:

208.7303 Procedures.

Follow the procedures at PGI 208.7303 for use of the Precious Metals Recovery Program.

208.7304 Refined precious metals.

See PGI 208.7304 for a list of refined precious metals managed by DSCP.

208.7401 [Amended]

17. Section 208.7401 is amended by removing the definitions of “Golden Disk” and “Software product manager”.

18. Section 208.7403 is revised to read as follows:

208.7403 Acquisition procedures.

Follow the procedures at PGI 208.7403 when acquiring commercial software and related services.

PART 225—FOREIGN ACQUISITION

225.7005-1 [Amended]

19. Section 225.7005-1 is amended in the introductory text by removing “(see subpart 208.72)”.

PART 252—SOLICITATION PROVISIONS AND CONTRACT CLAUSES

20. Section 252.225-7025 is amended by revising the clause date and paragraph (a)(1) to read as follows:

252.225-7025 Restriction on acquisition of forgings.

* * * * *

Restriction on Acquisition of Forgings (Jul 2006)

(a) * * *

(1) Domestic manufacture means—

(i) Manufactured in the United States or its outlying areas; or

(ii) Manufactured in Canada, if the Canadian firm normally produces similar items or is currently producing the item in support of DoD contracts (as a contractor or a subcontractor).

* * * * *

PART 253—FORMS

21. Sections 253.208-1 and 253.208-2 are revised to read as follows:

253.208-1 DD Form 448, Military Interdepartmental Purchase Request.

Follow the procedures at PGI 253.208-1 for use of DD Form 448.

253.208-2 DD Form 448-2, Acceptance of MIPR.

Follow the procedures at PGI 253.208-2 for use of DD Form 448-2.

Appendix B to Chapter 2 [Removed and Reserved]

22. Appendix B to Chapter 2 is removed and reserved.

[FR Doc. E6-10873 Filed 7-10-06; 8:45 am]

BILLING CODE 5001-08-P